DEPARTMENT OF VETERANS AFFAIRS

[OMB Control No. 2900-0614]

Agency Information Collection Activities Under OMB Review

AGENCY: Veterans Health Administration, Department of Veterans Affairs.

ACTION: Notice.

SUMMARY: In compliance with the Paperwork Reduction Act (PRA) of 1995 (44 U.S.C., 3501 et seq.), this notice announces that the Veterans Health Administration (VHA), Department of Veterans Affairs, has submitted the collection of information abstracted below to the Office of Management and Budget (OMB) for review and comment. The PRA submission describes the nature of the information collection and its expected cost and burden; it includes the actual data collection instrument.

DATES: Comments must be submitted on or before April 10, 2002.

ADDRESSES: Send comments and recommendations concerning any aspect of the information collection to VA's OMB Desk Officer, OMB Human Resources and Housing Branch, New Executive Office Building, Room 10235,Washington, DC 20503 (202) 395-7316. Please refer to “OMB Control No. 2900-0614” in any correspondence.

FOR FURTHER INFORMATION OR A COPY OF THE SUBMISSION CONTACT: Denise McLamb, Information Management Service (045A4), Department of Veterans Affairs, 810 Vermont Avenue, NW., Washington, DC 20420, (202) 273-8030, FAX (202) 273-5981 or e-mail: denise.mclamb@mail.va.gov. Please refer to “OMB Control No. 2900-0614.”

SUPPLEMENTARY INFORMATION: Title: 4th Phase Supplement, “Measurement/Validation of Psychosocial Risk and Resilience Factors Accounting for Physical/Mental Health and Health Related Quality of Life Among Veterans”, VA Form 10-21036(NR).

OMB Control Number: 2900-0614.

Type of Review: Revision of a currently approved collection.

Abstract: Phases I and II of this study are completed. The collection of information associated with Phase III is also completed. Phase IV is intended to complete VA's study of the “psychological and biomedical measurements for early identification of individuals at risk for stress-related illness.” The information collected will be used to produce a reliable inventory of psychosocial risk and resilience factors for contemporary military personnel and then demonstrate its validity vis-à-vis Gulf War veterans' self-reported somatic and psychological symptoms and judgments of health-related quality of life.

An agency may not conduct or sponsor, and a person is not required to respond to a collection of information unless it displays a currently valid OMB control number. The Federal Register Notice with a 60-day comment period soliciting comments on this collection of information was published on December 10, 2001, at page 63746.

Affected Public: Individuals or households.

Estimated Annual Burden: 313 hours.

Estimated Average Burden Per Respondent: 45 minutes.

Frequency of Response: One time.

Estimated Number of Respondents: 417.

Dated: February 27, 2002.
By direction of the Secretary:
Barbara H. Epps,
Management Analyst, Information Management Service.

[FR Doc. 02-5787 Filed 3-8-02; 8:45 am]

BILLING CODE 8320-01-P